SMALL BUSINESS ADMINISTRATION

[Disaster Declaration #11370]

New Hampshire Disaster #NH-00006

AGENCY: U.S. Small Business Administration.

ACTION: Correction.

SUMMARY: This is a notice of the Presidential declaration of a major disaster for Public Assistance Only for the State of New Hampshire (FEMA-1782-DR), dated 08/11/2008.

Incident: Severe Storms, Tornado, and Flooding.

Incident Period: 07/24/2008.

Effective Date: 08/11/2008.

Physical Loan Application Deadline Date: 10/10/2008.

Economic Injury (EIDL) Loan Application Deadline Date: Correction 05/11/2009.

ADDRESSES: Submit completed loan applications to: U.S. Small Business Administration, Processing and Disbursement Center, 14925 Kingsport Road, Fort Worth, TX 76155.

FOR FURTHER INFORMATION CONTACT: M. Mitravich, Office of Disaster Assistance, U.S. Small Business Administration, 409 3rd Street, SW., Suite 6050, Washington, DC 20416.

SUPPLEMENTARY INFORMATION: Notice is hereby given that as a result of the President's major disaster declaration on 08/11/2008, private non-profit organizations that provide essential services of governmental nature may file disaster loan applications at the address listed above or other locally announced locations.

The following areas have been determined to be adversely affected by the disaster:

Primary Counties:

Belknap, Carroll, Rockingham

Contiguous Counties (Economic Injury Loans Only):

New Hampshire: Coos, Grafton, Hillsborough, Merrimack, Strafford

Maine: Oxford, York

Massachusetts: Essex

The Interest Rates are:

| Percent
Other (Including Non-Profit Organizations) With Credit Available Elsewhere | 5.250
Businesses and Non-Profit Organizations Without Credit Available Elsewhere | 4.000

The number assigned to this disaster for physical damage and for economic injury is 11370.

(Catalog of Federal Domestic Assistance Number 59002 and 59008)

James E. Rivera,
Acting Associate Administrator for Disaster Assistance.

[FR Doc. E8-19869 Filed 8-26-08; 8:45 am]

BILLING CODE 8025-01-P